SECURITIES AND EXCHANGE COMMISSION

Submission for OMB Review; Comment Request

Upon written request, copies available from: Securities and Exchange Commission, Office of Filings and Information Services, Washington, DC 20549.

Extension: Form N-4; SEC File No. 270-282; OMB Control No. 3235-0318.

Notice is hereby given that pursuant to the Paperwork Reduction Act of 1995 (44 U.S.C. 3501 et seq.) the Securities and Exchange Commission (“Commission”) has submitted to the Office of Management and Budget (“OMB”) a request for extension of the previously approved collection of information discussed below.

The collection of information is entitled: “Form N-4 (17 CFR 239.17b and 274.11c) under the Securities Act of 1933 (15 U.S.C. 77a et seq.) and under the Investment Company Act of 1940 (15 U.S.C. 80a-1 et seq.) registration statement of separate accounts organized as unit investment trusts.” Form N-4 is the form used by insurance company separate accounts organized as unit investment trusts that offer variable annuity contracts to register as investment companies under the Investment Company Act of 1940 and/or to register their securities under the Securities Act of 1933 (“Securities Act”). The primary purpose of the registration process is to provide disclosure of financial and other information to investors and potential investors for the purpose of evaluating an investment in a security. Form N-4 also permits separate accounts organized as unit investment trusts that offer variable annuity contracts to provide investors with a prospectus containing the information required in a registration statement prior to the sale or at the time of confirmation or delivery of the securities. The estimated annual number of respondents filing on Form N-4 is 48 for those filing initial registration statements and 1,894 for those filing post-effective amendments. The proposed frequency of response is annual. The estimate of the total annual reporting burden of the collection of information is approximately 278.5 hours per initial filing and 197.25 hours for a post-effective amendment, for a total of 386,959.5 hours ((48 initial registration statements × 278.5 hours) + (1,894 post-effective amendments × 197.25 hour)). Providing the information required by Form N-4 is mandatory. Responses will not be kept confidential. Estimates of the burden hours are made solely for the purposes of the Paperwork Reduction Act, and are not derived from a comprehensive or even a representative survey or study of the costs of Commission rules and forms.

An agency may not conduct or sponsor, and a person is not required to respond to a collection of information unless it displays a currently valid control number.

General comments regarding the above information should be directed to the following persons: (i) Desk Officer for the Securities and Exchange Commission, Office of Information and Regulatory Affairs, Office of Management and Budget, Room 10102, New Executive Office Building, Washington, DC 20503 or e-mail to: David_Rostker@omb.eop.gov; and (ii) R. Corey Booth, Director/Chief Information Officer, Securities and Exchange Commission, C/O Shirley Martinson, 6432 General Green Way, Alexandria, VA 22312, or send an e-mail to: PRA_Mailbox@sec.gov. Comments must be submitted to OMB within 30 days of this notice.

Dated: December 11, 2006.
Nancy M. Morris,
Secretary.

[FR Doc. E6-21595 Filed 12-18-06; 8:45 am]

BILLING CODE 8011-01-P